DEPARTMENT OF TRANSPORTATION

Federal Aviation Administration

Notice of Opportunity for Public Comment on Surplus Property Release at Piedmont Triad International Airport, Greensboro, NC

AGENCY: Federal Aviation Administration (FAA), DOT.

ACTION: Notice.

SUMMARY: Under the provisions of Title 49, U.S.C. 47153(c), notice is being given that the FAA is considering a request from the Piedmont Triad Airport Authority to waive the requirement that a 18.58-acre parcel of surplus property, located at the Piedmont Triad International Airport, be used for aeronautical purposes.

DATES: Comments must be received on or before February 3, 2003.

ADDRESSES: Comments on this notice may be mailed or delivered in triplicate to the FAA at the following address: Atlanta Airport District Office, Attn: Tracie D. Kleine, Program Manager, 1701 Columbia Ave., Suite 2-260, Atlanta, GA 30337-2747.

In addition, one copy of any comments submitted to the FAA must be mailed or delivered to Mickie L. Elmore, Director of Development of the Piedmont Triad Airport Authority at the following address: Post Office Box 35445, Greensboro, NC 27425.

FOR FURTHER INFORMATION CONTACT: Tracie D. Kleine, Program Manager, Atlanta Airports District Office, 1701 Columbia Ave., Suite 2-260, Atlanta, GA 30337-2747, (404) 305-7148. The application may be reviewed in person at this same location.

SUPPLEMENTARY INFORMATION: The FAA is reviewing a request by the Piedmont Triad Airport Authority to release 18.58 acres of surplus property at the Piedmont Triad International Airport. The North Carolina Department of Transportation (NCDOT) will purchase the property. The land will be used in connection with the Greensboro Western Urban Loop, a multi-lane, limited access highway that will provide more efficient access to the airport. The net proceeds from the sale of this property will be used for airport purposes. The proposed use of this property is compatible with airport operations.

Any person may inspect the request in person at the FAA office listed above under FOR FURTHER INFORMATION CONTACT. In addition, any person may, upon request, inspect the request, notice and other documents germane to the request in person at the Piedmont Triad Airport Authority.

Issued in Atlanta, Georgia on December 26, 2002.
Scott L. Seritt,
Manager, Atlanta Airport District Office, Southern Region.

[FR Doc. 03-70 Filed 1-2-03; 8:45 am]

BILLING CODE 4910-13-M